DEPARTMENT OF HEALTH AND HUMAN SERVICES

National Institutes of Health

National Center for Complementary and Alternative Medicine Announcement of Workshop on Natural Products

ACTION: Notice.

SUMMARY: As part of its strategic planning process, the National Center for Complementary and Alternative Medicine (NCCAM) invites the public to attend and observe at a Workshop on Natural Products. The purpose of this workshop is to inform the NCCAM's third strategic plan by identifying particularly promising areas with the potential to yield new information about CAM natural product treatments.

The Workshop will take place on March 26, 2010 in Bethesda, Maryland. Those interested in CAM research are particularly encouraged to attend. Seating is limited.

Background: The National Center for Complementary and Alternative Medicine (NCCAM) was established in 1998 with the mission of exploring complementary and alternative healing practices in the context of rigorous science, training CAM researchers, and disseminating authoritative information to the public and professionals.

To date, NCCAM's efforts to rigorously study CAM, to train CAM researchers, and to communicate with the public and professionals, have been guided by NCCAM's previous strategic plans, located on the NCCAM Web site at http://nccam.nih.gov/about/plans.

Participating: The Workshop will take place on March 26, 2010 from 8:15 a.m. to 4:30 p.m. on the NIH campus in Bethesda, Maryland.

FOR FURTHER INFORMATION CONTACT: To request more information, visit the NCCAM Web site at http://nccam.nih.gov, call Carina May at 301-915-9763, or e-mail CMay@Thehillgroup.com.

Dated: March 3, 2010.
Jack Killen,
Deputy Director, National Center for Complementary and Alternative Medicine, National Institutes of Health.

[FR Doc. 2010-5164 Filed 3-9-10; 8:45 am]

BILLING CODE 4140-01-P